FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 5, 2018.

A. Federal Reserve Bank of Cleveland (Nadine Wallman, Vice President) 1455 East Sixth Street, Cleveland, Ohio 44101-2566. Comments can alsobe sent electronically to Comments.applications@clev.frb.org:

1. The Bruey Family Control Group, consisting of Paul and Marjorie Bruey, Yorkshire, Ohio; Barbara and Roger Kremer, Celina, Ohio; Beatrice and Delbert Balster, Tipp City, Ohio; Beverly and Dennis Balster, Vandalia, Ohio; Bridget and John Anthony, Cincinnati, Ohio; Elizabeth and Robert Poeppelman, Osgood, Ohio; and Eric Eyink, Maria Stein, Ohio: to retain voting shares of OSB Bancorp, Inc., and thereby indirectly retain shares of Osgood State Bank, both of Osgood, Ohio.

B. Federal Reserve Bank of Kansas City (Dennis Denney, Assistant Vice President) 1 Memorial Drive, Kansas City, Missouri 64198-0001:

1. Allison M. Grace, Wichita, Kansas, and the Allison M. Grace Trust Agreement dated April 7, 2005; to acquire voting shares of Andover Financial Corporation, Andover, Kansas, and thereby indirectly acquire shares of Andover State Bank, Andover, Kansas.

2. Kathy Fowler, Memphis, Texas; to retain voting shares of First Altus Bancorp, Inc., and thereby retain shares of Frazer Bank, both of Altus, Oklahoma.

Board of Governors of the Federal Reserve System, December 13, 2017.
Ann E. Misback,
Secretary of the Board.

[FR Doc. 2017-27184 Filed 12-15-17; 8:45 am]

BILLING CODE P